DEPARTMENT OF ENERGY

Federal Energy Regulatory Commission

[Docket No. RP04-179-000]

National Fuel Gas Supply Corporation; Notice of Petition for Waiver of Tariff Provisions

March 11, 2004.

Take notice that on February 27, 2004, National Fuel Gas Supply Corporation (National Fuel) tendered for filing a Petition for Waiver of Tariff Provisions in connection with proposed transportation services for Fortuna Energy Inc. (Fortuna).

National Fuel requests: (1) A waiver of its FT Rate Schedule's requirement to install real time measurement at all primary receipt points, because such measurement is not operationally required in this instance; and (2) a waiver of provisions concerning facility costs and financial assurances that would permit the parties' agreed deferred contribution-in-aid-of-construction mechanism and associated financial assurances related to a proposed facility construction project.

National Fuel is requesting that the Commission grant the requested waiver by April 1, 2004, so that the transaction may proceed as contemplated by the parties.

Any person desiring to be heard or to protest said filing should file a motion to intervene or a protest with the Federal Energy Regulatory Commission, 888 First Street, NE., Washington, DC 20426, in accordance with sections 385.214 or 385.211 of the Commission's rules and regulations. All such motions or protests must be filed on or before the date as indicated below. Protests will be considered by the Commission in determining the appropriate action to be taken, but will not serve to make protestants parties to the proceedings. Any person wishing to become a party must file a motion to intervene. This filing is available for review at the Commission in the Public Reference Room or may be viewed on the Commission's Web site at http://www.ferc.gov using the eLibrary. Enter the docket number excluding the last three digits in the docket number field to access the document. For assistance, please contact FERC Online Support at FERCOnlineSupport@ferc.gov or toll-free at (866) 208-3676, or TTY, contact (202) 502-8659. The Commission strongly encourages electronic filings. See 18 CFR 385.2001(a)(1)(iii) and the instructions on the Commission's Web site under the e-Filing link.

Intervention and Protests Date: March 18, 2004.

Magalie R. Salas,
Secretary.

[FR Doc. E4-628 Filed 3-18-04; 8:45 am]

BILLING CODE 6717-01-P